FEDERAL COMMUNICATIONS COMMISSION

Notice of Public Information Collection(s) Being Submitted to OMB for Review and Approval

January 30, 2001.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 8, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0806.

Title: Universal Service—Schools and Libraries Universal Service Program.

Form Number: FCC Forms 470 and 471.

Type of Review: Revision of a currently approved collection.

Respondents: Not-for-profit institutions; businesses or other for-profit entities; State, local, or tribal governments.

Number of Respondents: 60,000.

Estimated Time per Response: 4 to 4.5 hours.

Frequency of Response: Recordkeeping; on occasion reporting requirements; Third party disclosure.

Total Annual Burden: 470,000 hours.

Total Annual Costs: None.

Needs and Uses: The FCC adopted rules providing support for all telecommunications services, Internet access, and internal connections for all eligible schools and libraries. To participate in the program, schools and libraries must submit a description of the desired services to the Administrator via FCC Form 470. FCC Form 471 is submitted by schools and libraries that have ordered telecommunications services, Internet access, and internal connections. The FCC uses this information to determine eligibility of the applicants.

OMB Control Number: 3060-0686.

Title: Streamlining the Internet Section 214 Authorization Process and Tariff Requirements.

Form Number: N/A.

Type of Review: Extension of a currently approved collection.

Respondents: Businesses or other for-profit entities.

Number of Respondents: 1,650.

Estimated Time per Response: 30 mins. to 3,028 hrs.

Frequency of Response: Recordkeeping; On occasion, quarterly, and annual reporting requirements; third party disclosure.

Total Annual Burden: 73,896 hours.

Total Annual Costs: $12,467,000.

Needs and Uses: On September 12, 2000, the FCC adopted an Order on Reconsideration in IB Docket No. 97-142, Rules and Policies on Foreign Participation in the U.S. Telecommunications Market, which addressed petitions seeking reconsideration of the Report and Order in this proceeding in which the Commission modified its rules and policies regarding foreign participation in the U.S. telecommunications market. The Order on Reconsideration, drafted in response to the Telecommunications Act of 1996, mandates the FCC to undertake, in every even-numbered year beginning in 1998, a review of all regulations issued under the Communications Act and to eliminate unnecessary government regulation of the telecommunications industry. The information collections pertaining to Part 63 are necessary largely to determine the qualifications of applicants to provide common carrier international telecommunications service, including applicants that are affiliated with foreign carriers, and to determine whether and under what conditions the authorizations are in the public interest, convenience, and necessity. The information collections pertaining to Part 1 of the rules are necessary to determine whether the FCC should grant a license for proposed submarine cables landing in the United States.

Federal Communications Commission.
Magalie Roman Salas,
Secretary.

[FR Doc. 01-3019 Filed 2-5-01; 8:45 am]

BILLING CODE 6712-01-P